INTERNATIONAL TRADE COMMISSION

[Investigation No. 731-TA-1472 (Final)]

Difluoromethane (R-32) from China; Revised Schedule for the Subject Investigation

AGENCY: United States International Trade Commission.

ACTION: Notice.

DATES: October 19, 2020.

FOR FURTHER INFORMATION CONTACT: Ahdia Bavari (202-205-3191), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective August 27, 2020, the Commission published its schedule for the final phase of this investigation (85 FR 55688, September 9, 2020). The Commission is revising its schedule.

The Commission's revised dates in the schedule are as follows: Requests to appear at the hearing must be filed with the Secretary to the Commission not later than January 8, 2021. If deemed necessary, the prehearing conference will be held on January 11, 2021. The hearing will be held on January 14, 2021 at 9:30 a.m. The deadline for filing posthearing briefs is January 21, 2021.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to § 207.21 of the Commission's rules.

By order of the Commission.
Issued: October 19, 2020.
Lisa Barton,
Secretary to the Commission.

[FR Doc. 2020-23460 Filed 10-22-20; 8:45 am]

BILLING CODE 7020-02-P